DEPARTMENT OF AGRICULTURE

Animal and Plant Health Inspection Service

[Docket No. APHIS-2015-0058]

Highly Pathogenic Avian Influenza; Availability of Final Environmental Assessment and Finding of No Significant Impact

AGENCY: Animal and Plant Health Inspection Service, USDA.

ACTION: Notice of availability.

SUMMARY: We are advising the public that the Animal and Plant Health Inspection Service has prepared a final environmental assessment and finding of no significant impact relative to a national approach for the control of highly pathogenic avian influenza outbreaks within the United States. Based on the environmental assessment and our review of all public comments received, we have concluded that such an approach will not have a significant impact on the quality of the human environment.

FOR FURTHER INFORMATION CONTACT: Ms. Lori Miller, PE, Senior Staff Officer and Environmental Engineer, APHIS Veterinary Services, 4700 River Road Unit 41, Riverdale, MD 20737; (301) 851-3512. Copies of the final EA and FONSI may be obtained by contacting Ms. Michelle Gray, Environmental Protection Specialist, ERAS/PPD/APHIS, 4700 River Road Unit 149, Riverdale, MD 20737; (301) 851-3146.

SUPPLEMENTARY INFORMATION: Highly pathogenic avian influenza (HPAI) is a significant and often fatal zoonotic disease of poultry. In December 2014, two H5 viruses of HPAI were discovered in the United States. These viruses were subsequently detected in both migratory waterfowl and domestic poultry and significantly affected domestic poultry production within the United States. Two poultry production sectors, commercial meat turkeys and laying chickens, were heavily impacted by the disease, resulting in the loss or destruction of over 48 million birds between December 2014 and June 2015.

Disease eradication efforts, northern migration of wild waterfowl, and the natural disinfecting effect of summer heat have largely halted the spread of the disease within the United States. However, subsequent migrations of potentially infected wild waterfowl could precipitate a new round of outbreaks requiring additional actions by the Animal and Plant Health Inspection Service (APHIS) to control them.

On September 4, 2015, we published in the Federal Register (80 FR 53485, Docket No. APHIS-2015-0058) a notice ¹ in which we announced the availability, for public review and comment, of an environmental assessment (EA), titled “High Pathogenicity Avian Influenza Control in Commercial Poultry Operations—A National Approach,” and finding of no significant impact (FONSI) relative to a national approach for the control of HPAI outbreaks within the United States.

¹ To view the notice, final EA, FONSI, and comments, go to http://www.regulations.gov/#!docketDetail;D=APHIS-2015-0058.

The EA recommends an approach in which APHIS uses its centralized management of carcass disposal activities to ensure consistency in responses to HPAI outbreaks throughout the United States. Under this approach, APHIS provides information and other support to State and local authorities to help them determine which depopulation, disposal, and cleaning and disinfection methods are most appropriate for the situation.

We solicited comments for 30 days ending October 5, 2015. We received 3 comments by that date, from national animal welfare organizations and a member of the public. We carefully considered the comments we received on the EA and determined that none raise issues that APHIS had not already considered. Accordingly, APHIS has decided to implement this approach and concluded that it will not have a significant impact on the quality of the human environment. The comments we received are addressed in an appendix to the final EA.

The final EA and FONSI may be viewed on the Regulations.gov Web site (see footnote 1). Copies are also available for public inspection at USDA, Room 1141, South Building, 14th Street and Independence Avenue SW., Washington, DC, between 8 a.m. and 4:30 p.m. Monday through Friday, except holidays. Persons wishing to inspect copies are requested to call ahead to (202) 799-7039 to facilitate entry into the reading room. In addition, copies may be obtained by calling or writing to the appropriate person listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 3rd day of February 2016.
Kevin Shea,
Administrator, Animal and Plant Health Inspection Service.

[FR Doc. 2016-02526 Filed 2-8-16; 8:45 am]

BILLING CODE 3410-34-P